DEPARTMENT OF LABOR

Employment and Training Administration

[TA-W-60,515]

Maytag Corporation, a Wholly Owned Subsidiary of Whirlpool Corporation, Newton Division, Including On-Site Leased Workers of Henkel Corp., Randstad Corp., Ryerson Steel, Chem-Tool, Barnes Electric, Mid Iowa Tools, Kimco Janitorial, Johnson Controls, and Baker Electric, Newton, IA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 26, 2006, applicable to workers of Maytag Corporation, a wholly owned subsidiary of Whirlpool Corporation, Newton Division, Newton, Iowa. The notice was published in the Federal Register on January 16, 2007 (72 FR 1770). The certification was amended on July 26, 2007 to include numerous on-site leased firms. The notice was published in the Federal Register on August 2, 2007 (72 FR 42434).

At the request of a petitioner, the Department reviewed the certification for workers of the subject firm. The workers were engaged in the production of laundry products (clothes washers and dryers) and are not separately identifiable by specific product.

Findings show that the above mentioned leased workers working on-site at the subject firm were not included in the original decision; therefore, the impact date will read November 16, 2005, one year prior to the date of the petition. The Maytag workers will retain the same impact date of December 24, 2006 because a previous certification (TA-W-56,088) expired on December 23, 2006.

The intent of the Department's certification is to include all workers employed at Maytag Corporation, a wholly owned subsidiary of Whirlpool Corporation, Newton Division, Newton, Iowa who were adversely affected by increased imports.

The amended notice applicable to TA-W-60,515 is hereby issued as follows:

All workers of Maytag Corporation, a wholly owned subsidiary of Whirlpool Corporation, Newton Division, Newton, Iowa, who became totally or partially separated from employment on or after December 24, 2006, through December 26, 2008, are eligible to apply for adjustment assistance under Section 223 of the Trade Act of 1974, and are also eligible to apply for alternative trade adjustment assistance under Section 246 of the Trade Act of 1974,

and

All leased workers from Henkel Corp., Randstad Corp., Ryerson Steel, Chem-Tool, Barnes Electric, Mid Iowa Tools, Kimco Janitorial, Johnston Controls, and Baker Electric, working on-site at Maytag Corporation, a wholly owned subsidiary of Whirlpool Corporation, Newton Division, Newton, Iowa, who became totally or partially separated from employment on or after November 16, 2005, through December 26, 2008, are eligible to apply for adjustment assistance under Section 223 of the Trade Act of 1974, and are also eligible to apply for alternative trade adjustment assistance under Section 246 of the Trade Act of 1974.

Signed at Washington, DC, this 22nd day of July 2008.
Richard Church,
Certifying Officer, Division of Trade Adjustment Assistance.

[FR Doc. E8-17380 Filed 7-29-08; 8:45 am]

BILLING CODE 4510-FN-P